DEPARTMENT OF ENERGY

Federal Energy Regulatory Commission

[Docket No. ER04-543-001, et al.]

CMS Energy Resource Management Company, et al.; Electric Rate and Corporate Filings

April 21, 2004.

The following filings have been made with the Commission. The filings are listed in ascending order within each docket classification.

1. CMS Energy Resource Management Company

[Docket No. ER04-543-001]

Take notice that on April 14, 2004, CMS Energy Resource Management Company (CMS ERM) submitted for filing a revised power marketing tariff together with an appendix to implement market behavior rules to replace the April 7, 2004 filing in Docket No. ER04-543-002. CMS states that this filing is intended to change the name of the entity on their existing power marketing tariff, and to engraft the Commission approved market behavior rules into the tariff.

Comment Date: May 5, 2004.

2. Salmon River Electric Cooperative, Inc.

[Docket No. ER04-630-001]

Take notice that on April 20, 2004, Salmon River Electric Cooperative, Inc. (Salmon River) filed with the Commission, pursuant to section 205 of the Federal Power Act, 16 U.S.C. 824d, and part 35 of the Commission's regulations, 18 CFR part 35, an amendment to its March 9, 2004 filing to include an Assignment Agreement supplementing its filing of two Electric Service Agreements for Transmission Services between Salmon River and Lois von Morganroth designated as Rate Schedules FERC Nos. 4 and 5.

Comment Date: May 3, 2004.

3. Mobile Energy Services Company, LLC

[Docket No. ER04-750-000]

Take notice that on April 20, 2004, pursuant to section 35.15, 18 CFR 35.15 (2003) of the Commission's Regulations, Mobile Energy Services Company, LLC (MESC) filed with the Commission a Notice of Cancellation of market-based rate authority under the applicant's FERC Electric Tariff No. 1, effective April 30, 2004.

Comment Date: April 27, 2004.

4. PJM Interconnection, L.L.C.

[Docket No. ES04-23-000]

Take notice that on April 12, 2004, PJM Interconnection, L.L.C. (PJM) submitted an application pursuant to section 204 of the Federal Power Act requesting that the Commission authorize the continued borrowing of funds from a long-term unsecured promissory note not to exceed $15 million.

PJM also requests a waiver from the Commission's competitive bidding and negotiated placement requirements at 18 CFR 34.2.

Comment Date: May 10, 2004.

5. Connexus Energy

[Docket No. ES04-25-000]

Take notice that on April 14, 2004, Connexus Energy (Connexus) submitted an application pursuant to section 204 of the Federal Power Act requesting that the Commission: (1) Authorize the issuance of a long-term promissory note in an amount not to exceed $25 million with the National Rural Utilities Cooperative Finance Corporation (CFC); (2) authorize the renewal of a line of credit in an amount not to exceed $20 million with the CFC; and (3) authorize the borrowing under a new line of credit not to exceed $10 million with the CoBank, ACB.

Connexus also requests a waiver from the Commission's competitive bidding and negotiated placement requirements at 18 CFR 34.2 and an exemption from the Westar restrictions.

Comment Date: May 11, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-944 Filed 4-27-04; 8:45 am]

BILLING CODE 6717-01-P